NUCLEAR REGULATORY COMMISSION

[NRC-2009-0417]

Solicitation of Public Comments on the Implementation of the Reactor Oversight Process

AGENCY: Nuclear Regulatory Commission.

ACTION: Request for public comment.

SUMMARY: The NRC is soliciting comments from members of the public, licensees, and interest groups related to the implementation of the Reactor Oversight Process (ROP). An electronic version of the survey questions and additional information about the ROP are available at http://www.nrc.gov/NRR/OVERSIGHT/ASSESS/index.html. This solicitation will provide insights into the self-assessment process and a summary of the feedback will be included in the annual ROP self-assessment report to the Commission.

DATES: The comment period expires on November 6, 2009. The NRC will consider comments received after this date if it is practical to do so, but is able to ensure consideration of only those comments received on or before this date.

ADDRESSES: You may submit completed questionnaires and/or comments by any one of the following methods. Please include Docket ID NRC-2009-0417 in the subject line of your comments. Comments submitted in writing or in electronic form will be posted on the NRC Web site and on the Federal rulemaking Web site Regulations.gov. Because your comments will not be edited to remove any identifying or contact information, the NRC cautions you against including any information in your submission that you do not want to be publicly disclosed.

The NRC requests that any party soliciting or aggregating comments received from other persons for submission to the NRC inform those persons that the NRC will not edit their comments to remove any identifying or contact information, and therefore, they should not include any information in their comments that they do not want publicly disclosed.

Federal Rulemaking Website: Go to http://www.regulations.gov and search for documents filed under Docket ID NRC-2009-0417. Address questions about NRC dockets to Carol Gallagher 301-492-3668; e-mail Carol.Gallagher@nrc.gov.

Mail comments to: Michael T. Lesar, Chief, Rulemaking and Directives Branch (RDB), Office of Administration, Mail Stop: TWB-05-B01M, U.S. Nuclear Regulatory Commission, Washington, DC 20555-0001, or by fax to RDB at (301) 492-3446.

You can access publicly available documents related to this notice using the following methods:

NRC's Public Document Room (PDR): The public may examine and have copied for a fee publicly available documents at the NRC's PDR, Public File Area O1 F21, One White Flint North, 11555 Rockville Pike, Rockville, Maryland.

NRC's Agencywide Documents Access and Management System (ADAMS): Publicly available documents created or received at the NRC are available electronically at the NRC's Electronic Reading Room at http://www.nrc.gov/reading-rm/adams.html. From this page, the public can gain entry into ADAMS, which provides text and image files of NRC's public documents. If you do not have access to ADAMS or if there are problems in accessing the documents located in ADAMS, contact the NRC's PDR reference staff at 1-800-397-4209, 301-415-4737, or by e-mail to pdr.resource@nrc.gov.

Federal Rulemaking Website: Public comments and supporting materials related to this notice can be found at http://www.regulations.gov by searching on Docket ID: NRC-2009-0417.

FOR FURTHER INFORMATION CONTACT: Mr. Ronald Frahm, Office of Nuclear Reactor Regulation (Mail Stop: OWFN 7G13), U.S. Nuclear Regulatory Commission, Washington DC 20555-0001. Mr. Frahm can also be reached by telephone at 301-415-2986 or by e-mail at Ronald.Frahm@nrc.gov.

SUPPLEMENTARY INFORMATION:

Program Overview

The mission of the NRC is to license and regulate the Nation's civilian use of byproduct, source, and special nuclear materials to ensure adequate protection of public health and safety, promote the common defense and security, and protect the environment. This mission is accomplished through the following activities:

• License nuclear facilities and the possession, use, and disposal of nuclear materials.

• Develop and implement requirements governing licensed activities.

• Inspect and enforce licensee activities to ensure compliance with these requirements and the law.

Although the NRC's responsibility is to monitor and regulate licensees' performance, the primary responsibility for safe operation and handling of nuclear materials rests with each licensee.

As the nuclear industry in the United States has matured, the NRC and its licensees have learned much about how to safely operate nuclear facilities and handle nuclear materials. In April 2000, the NRC began to implement more effective and efficient inspection, assessment, and enforcement approaches, which apply insights from these years of regulatory oversight and nuclear facility operation. Key elements of the Reactor Oversight Process (ROP) include NRC inspection procedures, plant performance indicators, a significance determination process, and an assessment program that incorporates various risk-informed thresholds to help determine the level of NRC oversight and enforcement. Since ROP development began in 1998, the NRC has frequently communicated with the public by various initiatives: conducted public meetings in the vicinity of each licensed commercial nuclear power plant, issued Federal Register Notices to solicit feedback on the ROP, published press releases about the process, conducted multiple public workshops, placed pertinent background information in the NRC's Public Document Room, and maintained an NRC Web site containing easily accessible information about the ROP and licensee performance.

NRC Public Stakeholder Comments

The NRC continues to be interested in receiving feedback from members of the public, various public stakeholders, and industry groups on their insights regarding the calendar year 2009 implementation of the ROP. In particular, the NRC is seeking responses to the questions listed below, which will provide important information that the NRC can use in ongoing program improvement. A summary of the feedback obtained will be provided to the Commission and included in the annual ROP self-assessment report.

Questions

In responding to these questions, please describe your experiences with the NRC's reactor oversight process. If additional space is needed, please attach to the back of the survey. If there are experiences or opinions that you would like to express that cannot be directly captured by the questions, please document them in the last question of the survey.

Questions Related to Specific Reactor Oversight Process (ROP) Program Areas

(As appropriate, please provide specific examples and suggestions for improvement.)

(1) Does the Performance Indicator Program provide useful insights, particularly when combined with the inspection program, to help ensure plant safety and/or security?

Comments:

(2) Does appropriate overlap exist between the Performance Indicator Program and the Inspection Program to provide for a comprehensive indication of licensee performance?

Comments:

(3) Does NEI 99-02, “Regulatory Assessment Performance Indicator Guideline” provide clear guidance regarding Performance Indicators?

Comments:

(4) Does the Performance Indicator Program effectively contribute to the identification of performance outliers based on risk-informed, objective, and predictable measures?

Comments:

(5) Does the Inspection Program adequately cover areas that are important to plant safety and/or security, and is it effective in identifying and ensuring the prompt correction of performance deficiencies?

Comments:

(6) Is the information contained in NRC inspection reports relevant, useful, and written in plain English?

Comments:

(7) Does the Significance Determination Process result in an appropriate regulatory response to performance issues?

Comments:

(8) Does the NRC take appropriate actions to address performance issues for those plants outside the Licensee Response Column of the Action Matrix?

Comments:

(9) Is the information contained in NRC assessment letters relevant, useful, and written in plain English?

Comments:

(10) Do the ROP safety culture enhancements help in identifying licensee safety culture weaknesses and focusing licensee and NRC attention appropriately?

Comments:

Questions related to the efficacy of the overall ROP. (As appropriate, please provide specific examples and suggestions for improvement.)

(11) Are the ROP oversight activities predictable (i.e., controlled by the process) and reasonably objective (i.e., based on supported facts, rather than relying on subjective judgment)?

Comments:

(12) Is the ROP risk-informed, in that the NRC's actions are appropriately graduated on the basis of increased significance?

Comments:

(13) Is the ROP understandable and are the processes, procedures and products clear and written in plain English?

Comments:

(14) Does the ROP provide adequate assurance, when combined with other NRC regulatory processes, that plants are being operated and maintained safely and securely?

Comments:

(15) Are NRC actions related to the ROP effective (e.g., are NRC actions of high quality, efficient, timely, and realistic to enable the safe use of radioactive materials)?

Comments:

(16) Does the ROP ensure openness in the regulatory process (e.g., does the NRC appropriately inform stakeholders in the regulatory process)?

Comments:

(17) Has the public been afforded adequate opportunity to participate in the ROP and to provide inputs and comments (e.g., does the NRC appropriately involve stakeholders in the regulatory process)?

Comments:

(18) Has the NRC been responsive to public inputs and comments on the ROP?

Comments:

(19) Has the NRC implemented the ROP as defined by program documents?

Comments:

(20) Does the ROP result in unintended consequences?

Comments:

(21) Please provide any additional information or comments related to the Reactor Oversight Process.

Comments:

Dated at Rockville, Maryland, this 17th day of September, 2009.
For the U.S. Nuclear Regulatory Commission.
Michael Cheok,
Deputy Director, Division of Inspection & Regional Support, Office of Nuclear Reactor Regulation.

[FR Doc. E9-23214 Filed 9-24-09; 8:45 am]

BILLING CODE 7590-01-P